DEPARTMENT OF HEALTH AND HUMAN SERVICES

Centers for Disease Control and Prevention

Government-Owned Inventions; Availability for Licensing

AGENCY: Centers for Disease Control and Prevention, Technology Transfer Office, Department of Health and Human Services

ACTION: Notice.

The inventions named in this notice are owned by agencies of the United States Government and are available for licensing in the United States (U.S.) in accordance with 35 U.S.C. 207, to achieve expeditious commercialization of results of federally funded research and development. Foreign patent applications are filed on selected inventions to extend market coverage for U.S. companies and may also be available for licensing.

ADDRESSES: Licensing information, and copies of the U.S. patent applications listed below, may be obtained by writing to Thomas E. O'Toole, M.P.H., Deputy Director, Technology Transfer Office, Centers for Disease Control and Prevention (CDC), Mailstop E-67, 1600 Clifton Rd., Atlanta, GA 30333, telephone (404) 498-0170, facsimile (404) 498-0095, and e-mail tto@cdc.gov. Please note that a signed Confidential Disclosure Agreement will be required to receive copies of unpublished patent applications.

Apparatus for Applying Chemicals to Rodents

This invention comprises a method of controlling Lyme disease by preventing the maturation of deer ticks on white-footed mice by exposing the mice to insecticides as they enter food-baited boxes. Other tick- and flea-borne diseases can also be controlled by this method.

Inventors: Gary O. Maupin et al. U.S. Patent Application SN: 09/595,034 (CDC Ref. #: I-031-00).

Control of Arthropod Vectors of Parasitic Diseases

This invention comprises a method of controlling Lyme disease by preventing the maturation of deer ticks on white-footed mice by exposing the mice to insecticides as they enter food-baited boxes. Other tick- and flea-borne diseases can also be controlled by this method.

Inventors: Gary O. Maupin et al. U.S. Patent Application SN: 09/595,035 (CDC Ref. #: I-032-00).

Control of Arthropods in Rodents

This invention comprises a method of controlling Lyme disease by preventing the maturation of deer ticks on white-footed mice by exposing the mice to insecticides as they enter food-baited boxes. Other tick- and flea-borne diseases can also be controlled by this method.

Inventors: Gary O. Maupin et al. U.S. Patent Application SN: 09/595,177 (CDC Ref. #: I-041-00).

Method for Monitoring Local Reaction Associated With Injections

A simple and inexpensive method to give patients a guideline for determining the severity of an adverse reaction that may occur at the site of injection. Patients can be instructed to notify health care providers if an inflammatory response spreads beyond a measured distance from the location of injection.

Inventor: Laurie Kamimoto, U.S. Patent Application SN: 60/238,691 (CDC Ref. #: I-036-00).

Auscultory Training System

This invention provides for the precise reproduction of recorded sounds. Under ordinary conditions, a sound signal is distorted by the amplifier, speakers, and the surroundings. This invention modifies the signal delivered to the speaker in such a way as to precisely reproduce the signal as it was originally recorded. The graphical user-interface allows for the easy selection and playback of individual components of a larger sound recording. This invention could have applications as a diagnostic screening tool, as a telemedicine tool, and as a teaching tool to instruct the user on the various body sounds, such as lung, bowel, or heart sounds.

Inventors: Walter McKinney et al. U.S. Patent Application SN: To be assigned, filed 4.30.2001. (CDC Ref. #: I-037-00).

Peptide Vaccines Against Group A Streptococci

The invention is a vaccine comprised of three synthetic peptides of 20-25 amino acids in length from different M proteins. The synthetic peptides can be recognized by M type-specific antibodies and are capable of eliciting functional opsonic antibodies in mice. The vaccine may have the potential to eliminate over 85% of Group A Streptococci infections and reduce by 85% the nasopharyngeal reservoir of Group A Streptococci in the United States.

Inventors: Bernard Beall et al. U.S. Patent Application SN: To be assigned, filed 5.18.2001. (CDC Ref. #: I-039-00)

DNA Synthesis by the Cooperative Action of DNA Polymerase and Nuclease

Confirmation of a diagnosis of an infectious agent usually depends upon the detection of the causative agent or its signature effect on the immune system. Nucleic acid detection methods offer the greatest sensitivity but depend upon specific hybridization of a primer or a probe, thus they can only be used to detect nucleic acids. This invention comprises a novel method of diagnostic detection which retains the sensitivity of nucleic acid based amplification methods while allowing detection of non-nucleic acid targets such as antibodies, surface proteins, or other antigenic components. Thus, no specific sequence information need be known about the potential target.

Inventors: Yuri Khudyakov, U.S. Patent Application SN: (CDC Ref. #: I-043-00)

BACTID—Microcomputer Programs and Databases for the Identification of Enterobacteriaceae, Vibrionaceae, and Other Microorganisms

BACTID consists of a software program coupled with a database whereby the user enters a description of an unknown microorganism which the software compares to the database for the purpose of identification of the unknown. This program allows regional diagnostic labs to access national databases which provide for greater sensitivity and specificity in identification of unknowns without the need to transfer samples to larger labs.

Inventor: John J. Farmer, U.S. Patent Application SN: Application yet to be filed. (CDC Ref. #: I-045-00)

Dated: June 22, 2001.
Joseph R. Carter,
Associate Director for Management and Operation, Centers for Disease Control and Prevention.

[FR Doc. 01-16245 Filed 6-27-01; 8:45 am]

BILLING CODE 4163-18-P